OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between January 1, 2010, and January 31, 2010. These notices are published monthly in the Federal Register at http://www.gpoaccess.gov/fr/. A consolidated listing of all authorities as of June 30 is also published each year. The following Schedules are not codified in the Code of Federal Regulations. These are agency-specific exceptions.

Schedule A

Section 213.3133 Federal Deposit Insurance Corporation

(c) Temporary or time-limited positions located at closed banks or savings and loan institutions that are concerned with liquidating the assets of the institutions, liquidating loans to the institutions, or paying the depositors of closed insured institutions. Time-limited appointments under this authority may not exceed 7 years.

Schedule B

Section 213.3206 Department of Defense

(b) Interdepartmental Activities.

(1) Seven (7) positions to provide general administration, general art and information, photography, and/or visual information support to the White House Photographic Service.

Schedule C

The following Schedule C appointments were approved during January 2010.

Office of Science and Technology Policy

TSGS10001 Confidential Assistant to the Associate Director for Environment. Effective January 8, 2010.

TSGS10002 Assistant Director for Legislative Affairs to the President for Science and Technology. Effective January 13, 2010.

Department of State

DSGS70076 Special Assistant for East Asian and Pacific Affairs. Effective January 4, 2010.

DSGS69985 Senior Advisor to the Secretary of State. Effective January 6, 2010.

DSGS70007 Deputy Chief of Protocol to the Chief of Protocol. Effective January 6, 2010.

DSGS70080 Staff Assistant to the Chief of Staff/Counselor. Effective January 29, 2010.

DSGS70101 Special Assistant to the Assistant Secretary Bureau of International Narcotics and Law Enforcement Affairs. Effective January 29, 2010.

Department of Defense

DDGS17268 Special Assistant to the Principal Deputy Assistant Secretary for Defense. Effective January 13, 2010.

DDGS17270 Special Assistant for Research to the Special Assistant for Speechwriting. Effective January 22, 2010.

Department of Air Force

DFGS60022 Special Assistant to the Secretary of the Air Force. Effective January 19, 2010.

DFGS60023 Special Assistant to the Assistant Secretary of the Air Force (Manpower and Reserve Affairs). Effective January 19, 2010.

Department of Justice

DJGS00551 Senior Counsel to the Assistant Attorney General. Effective January 4, 2010.

DJGS00082 Special Assistant to the Assistant Attorney General Environment and Natural Resources. Effective January 6, 2010.

DJGS00246 Counsel to the Assistant Attorney General Environment and Natural Resources. Effective January 19, 2010.

DJGS00553 Counsel and Chief of Staff to the Assistant Attorney General Environment and Natural Resources. Effective January 19, 2010.

Department of Homeland Security

DMGS00841 Public Affairs Specialist to the Deputy Under Secretary for National Protection and Programs Directorate. Effective January 14, 2010.

DMGS00842 Program Analyst to the Counselor to the Deputy Under Secretary for National Protection and Programs Directorate. Effective January 14, 2010.

Department of the Interior

DIGS01176 Senior Advisor for the Northwest Region to the Secretary. Effective January 28, 2010.

DIGS01177 Special Assistant to the Assistant Secretary Policy Management and Budget. Effective January 28, 2010.

DIGS01178 Senior Advisor for Southwest and Rocky Mountain Regions to the Secretary. Effective January 28, 2010.

DIGS01179 Deputy Director, to the Director, External Affairs. Effective January 28, 2010.

DIGS01180 Science Advisor to the Director, Minerals Management Service. Effective January 29, 2010.

DIGS01181 Special Assistant to the Assistant Secretary-Land and Minerals Management. Effective January 29, 2010.

Department of Agriculture

DAGS00103 Director of Advance to the Director of Communications. Effective January 28, 2010.

Department of Commerce

DCGS00582 Confidential Assistant to the Under Secretary of Commerce for Industry and Security. Effective January 29, 2010.

DCGS00692 Director of Public Affairs to the Director of Outreach. Effective January 29, 2010.

Department of Labor

DLGS00084 Staff Assistant to the Director of Scheduling and Advance. Effective January 4, 2010.

Department of Education

DBGS00348 Confidential Assistant to the Under Secretary. Effective January 14, 2010.

DBGS00109 Confidential Assistant to the Assistant Secretary for Civil Rights. Effective January 21, 2010.

DBGS00611 Chief of Staff to the Assistant Secretary for Legislation and Congressional Affairs. Effective January 21, 2010.

DBGS00523 Director, White House Liaison to the Chief of Staff. Effective January 28, 2010.

DBGS00618 Chief of Staff to the Assistant Secretary for Planning, Evaluation, and Policy Development. Effective January 28, 2010.

DBGS00208 Special Assistant to the Deputy Secretary of Education. Effective January 29, 2010.

DBGS00568 Chief of Staff to the Assistant Secretary for Elementary and Secondary Education. Effective January 29, 2010.

Environmental Protection Agency

EPGS09008 White House Liaison to the Administrator. Effective January 21, 2010.

EPGS10003 Special Assistant to the Associate Administrator for Public Affairs. Effective January 28, 2010.

Department of Energy

DEGS00784 Senior Advisor to the Assistant Secretary (Energy Efficiency and Renewable Energy). Effective January 6, 2010.

DEGS00786 Special Assistant to the Director Advanced Research Projects Agency—Energy. Effective January 8, 2010.

DEGS00787 Special Assistant for Strategic Planning to the Director, Office of Scheduling and Advance. Effective January 21, 2010.

DEGS00790 Special Assistant to the Chief of Staff. Effective January 21, 2010.

DEGS00791 Scheduler to the Director, Office of Scheduling and Advance. Effective January 21, 2010.

DEGS00782 Deputy White House Liaison to the White House Liaison. Effective January 22, 2010.

DEGS00792 Trip Coordinator to the Director, Office of Scheduling and Advance. Effective January 29, 2010.

DEGS00793 Lead Advance Representative to the Director, Office of Scheduling and Advance. Effective January 29, 2010.

General Services Administration

GSGS01436 Special Assistant to the Regional Administrator. Effective January 4, 2010.

GSGS01437 Special Assistant to the Associate Administrator for Small Business Utilization. Effective January 4, 2010.

Commission on Civil Rights

CCGS60016 Special Assistant to a Commissioner. Effective January 14, 2010.

National Credit Union Administration

CUOT01379 Chief of Staff to the Chairman. Effective January 6, 2010.

CUOT01389 Senior Policy Advisor to the Vice Chair. Effective January 6, 2010.

CUOT01390 Senior Policy Advisor to a Board Member. Effective January 6, 2010.

Consumer Product Safety Commission

PSGS00075 Special Assistant (Legal) to a Commissioner. Effective January 6, 2010.

PSGS07343 Staff Assistant to a Commissioner. Effective January 6, 2010.

PSGS07344 Special Assistant to a Commissioner. Effective January 6, 2010.

PSGS60003 Special Assistant (Legal) to a Commissioner. Effective January 6, 2010.

PSGS60007 Director, Office of Congressional Relations to the Chairman, Consumer Product Safety Commission. Effective January 6, 2010.

PSGS60050 Executive Assistant to a Commissioner. Effective January 6, 2010.

PSGS60066 Supervisory Public Affairs Specialist to the Executive Director. Effective January 6, 2010.

Commodity Futures Trading Commission

CTOT00014 Administrative Assistant to a Commissioner. Effective January 2, 2010.

Department of Housing and Urban Development

DUGS60571 Deputy Assistant Secretary for International and Philanthropic Affairs, for Policy Development and Research. Effective January 21, 2010.

Authority: 5 U.S.C. 3301 and 3302; E.O. 10577, 3 CFR 1954-1958 Comp., p. 218.

U.S. Office of Personnel Management.
John Berry,
Director.

[FR Doc. 2010-5155 Filed 3-9-10; 8:45 am]

BILLING CODE 6325-39-P